DEPARTMENT OF ENERGY

Federal Energy Regulatory Commission

[Docket No. PF06-2-000]

Transcontinental Gas Pipe Line Corporation; Notice of Intent To Prepare an Environmental Assessment for the Proposed Potomac Expansion Project and Request for Comments on Environmental Issues

February 3, 2006.

The staff of the Federal Energy Regulatory Commission (FERC or Commission) will prepare an environmental assessment (EA) that will discuss the environmental impacts of Transcontinental Gas Pipe Line Corporation's (Transco) proposed Potomac Expansion Project involving construction and operation of facilities in Pittsylvania, Campbell, and Fairfax Counties, Virginia. This EA will be used by the Commission in its decision-making process to determine whether the project is in the public convenience and necessity.

This notice announces the opening of the scoping process that the Commission will use to gather environmental input from the public and interested agencies on the Potomac Expansion Project. Your input will help determine which issues need to be evaluated in the EA. Please note that the scoping period will close on March 17, 2006. Details on how to submit comments are provided in the Public Participation section of this notice.

This notice is being sent to affected landowners; federal, state, and local government agencies; elected officials; environmental and public interest groups; Native American tribes; other interested parties; and local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

With this notice, we ¹ are asking other federal, state, local, and tribal agencies with jurisdiction and/or special expertise with respect to environmental issues to cooperate with us in the preparation of the EA. Agencies that would like to request cooperating status should follow the instructions for filing comments provided below.

¹ “We,” “us,” and “our” refer to the environmental staff of the Office of Energy Projects.

A fact sheet prepared by the FERC entitled “An Interstate Natural Gas Facility on My Land? What Do I Need to Know?” is available for viewing on the FERC Internet Web site (http://www.ferc.gov). This fact sheet addresses a number of typically asked questions, including the use of eminent domain and how to participate in the FERC's proceedings.

Summary of the Proposed Project

Transco proposes to expand its existing pipeline facilities in Pittsylvania and Campbell Counties, Virginia and replace a portion of an existing natural gas pipeline in Fairfax County, Virginia (see map in Appendix A ²). The expansion would consist primarily of looping ³ Transco's existing pipeline system for about 21.2 miles and replacement of about 3.4 miles of pipeline. The Potomac Expansion Project is proposed to begin construction in March 2007 and place facilities in service by November 2007, contingent on the project being certificated.

² The appendix referenced in this notice is not being printed in the Federal Register. Copies are available from the Commission's Public Reference and Files Maintenance Branch, at (202) 502-8371. For instructions on connecting to eLibrary refer to the public participation section of this notice.

³ A loop is a segment of pipeline that is usually installed adjacent to an existing pipeline and connected to it at both ends. The loop allows more gas to be moved through the system.

Specifically, Transco seeks authority to construct and operate the following facilities:

• Pipeline Facilities

—About 17.2 miles of 42-inch-diameter loop in Pittsylvania County, Virginia.

—About 4.0 miles of 42-inch-diameter loop in Campbell County, Virginia.

—Replace 3.4 miles of 30-inch-diameter pipeline with 42-inch-diameter pipeline in Fairfax County, Virginia.

• Miscellaneous facilities

—Mainline valve (MLV) setting and pig launcher and receiver in Pittsylvania County, Virginia.

—MLV setting and pig launcher in Campbell County, Virginia.

—MLV setting and pig launcher and receiver in Fairfax County, Virginia.

The EA Process

The FERC will be the lead federal agency for the preparation of the EA. The document will satisfy the requirements of the National Environmental Policy Act (NEPA). The Potomac Expansion Project is in the preliminary design state.

For this project, the FERC staff has initiated its NEPA review prior to receiving the application. The purpose of the Commission's Pre-Filing Process is to involve interested stakeholders early in project planning and to identify and resolve issues before an application is filed with the FERC. A docket number (PF06-2-000) has been established to place information filed by Transco, and related documents issued by the Commission, into the public record. Once a formal application is filed with the FERC, a new docket number will be established.

NEPA requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Our independent analysis of the issues will be in the EA. Depending on the comments received during the scoping process, the EA may be published and mailed to federal, state, and local agencies; elected officials; environmental and public interest groups; other interested parties; affected landowners; Native American tribes; libraries, and newspapers; and the Commission's official service list for this proceeding. A comment period will be allotted for review if the EA is published. We will consider all comments on the EA before we make our recommendations to the Commission.

To ensure your comments are considered, please carefully follow the instructions in the public participation section.

Public Participation

You can make a difference by providing us with your specific comments or concerns about the proposal. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Magalie R. Salas, Secretary, Federal Energy Regulatory Commission, 888 First St. NE.; Room 1A, Washington, DC 20426;

• Label one copy of the comments for the attention of the Gas Branch 1, DG2E; and

• Reference Docket No. PF06-2-000 on the original and both copies.

• Mail your comments so that they will be received in Washington, DC on or before March 17, 2006.

The Commission encourages electronic filing of comments. See Title 18 Code of Federal Regulations (CFR) 385.2001(a)(1)(iii) and the instructions on the Commission's internet website at http://www.ferc.gov under the “eFiling” link and the link to the user's Guide. Prepare your submission in the same manner as you would if filing on paper and save it to a file on your hard drive. Before you can file comments you will need to create an account by clicking on “Login to File” and then “New User Account.” You will be asked to select the type of filing you are making. This filing is considered a “Comment on Filing.”

When Transco submits its application for authorization to construct and operate the Potomac Expansion Project, the Commission will publish a Notice of Application in the Federal Register and will establish a deadline for interested persons to intervene in the proceeding. Because the Commission's Pre-Filing Process occurs before an application to begin a proceeding is officially filed, petitions to intervene during this process are premature and will not be accepted by the Commission.

Environmental Mailing List

If you received this notice, you are on the environmental mailing list for the Potomac Expansion Project and will continue to receive project updates including the EA. If you want your contact information corrected or you do not want to remain on our mailing list, please return the Correct or Remove From Mailing List Form included as Appendix B.

To reduce printing and mailing costs, the EA may be issued in both CD-ROM and hard copy formats. The FERC strongly encourages the use of the CD-ROM format in its publication of documents. If you wish to receive a paper copy of the EA instead of a CD-ROM, you must indicate that choice on the return postcard (Appendix B).

Availability of Additional Information

Additional information about the project is available from the Commission's Office of External Affairs at 1-866-208 FERC or on the FERC Internet Web site (http://www.ferc.gov) using the “eLibrary” link. Click on the eLibrary link, click on “General Search,” and enter the docket number excluding the last three digits in the Docket Number field (i.e., PF06-2). Be sure you have selected an appropriate date range. For assistance, please contact FERC Online Support at FERCOnlineSupport@ferc.gov or toll free at 1-866-208-3676, or for TTY, contact (202) 502-8659. The eLibrary link also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E6-1857 Filed 2-9-06; 8:45 am]

BILLING CODE 6717-01-P